DEPARTMENT OF JUSTICE

Notice of Lodging of Consent Decree Pursuant to the Comprehensive Environmental Response, Compensation, and Liability Act

In accordance with Departmental policy, 28 CFR 50.7, notice is hereby given that on October 26, 2001, the United States of America, by and through Department of Justice on behalf of the United States Environmental Protection Agency (“EPA”), lodged with the United States District Court for the District of Idaho a Consent Decree resolving the United States' claims against defendant the J.R. Simplot Company in this action.

The Consent Decree requires Simplot to implement EPA's selected remedy for the Simplot Operable Unit of the Site, and to reimburse costs incurred by EPA in response to releases of hazardous substances at the Site. The Consent Decree also requires Simplot to reimburse the United States for all future costs incurred by the United States in overseeing Simplot's implementation of EPA's selected remedy for the Simplot Operable Unit of the Site.

The Department of Justice will receive, for a period of thirty (30) days from the date of this publication, comments relating to the proposed Consent Decree. Comments should be addressed to the Assistant Attorney General for the Environment and Natural Resources Division, Department of Justice, Washington, DC 20530, and should refer to United States v. FMC, DOJ Ref. #90-7-1-889/1.

The proposed Consent Decree may be examined at the Region 10 Office of the Environmental Protection Agency, 1200 Sixth Avenue, Seattle, WA 98104 (206) 553-1504, and may be obtained from the Office of the United States Attorney for the District of Idaho, P.O. Box 32, Boise, Idaho 83707 (208) 334-1211. A copy of the proposed Consent Decree may also be obtained in person or by mail from the Consent Decree Library, 1120 G Street, NW., 3rd Floor, Washington, DC 20005. In requesting copies please refer to United States v. FMC, No. C99-296-E-BLW (D. Idaho), specify the Consent Decree you wish to receive, and enclose a check payable to the Consent Decree Library in the amount of twenty dollars (25 cents per page reproduction costs).

Robert E. Maher, Jr.,
Environmental Enforcement Section, Environment and Natural Resources Division.

[FR Doc. 01-28367 Filed 11-9-01; 8:45 am]

BILLING CODE 4410-15-M